DEPARTMENT OF TRANSPORTATION

Federal Aviation Administration

[Summary Notice No. PE-2001-61]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received and corrections. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, D.C. on August 16, 2001.
Gary A. Michel,
Acting Assistant Chief Counsel for Regulations.

Dispositions of Petitions

Docket No.: FAA-2001-9863.

Petitioner: Hospital AirTransport, Inc., dba Helicopter AirTransport, Inc.

Section of 14 CFR Affected: 14 CFR 133.45(e)(1).

Description of Relief Sought/Disposition: To permit HAT to conduct Class D rotorcraft-load combination operations with an Agusta A 109K2 helicopter certificated in the normal category under 14 CFR part 27.

Grant, 08/03/2001, Exemption No. 7583.

Docket No.: FAA-2001-9807.

Petitioner: Mountain West Helicopters, L.L.C.

Section of 14 CFR Affected: 14 CFR 133.19(a)(3) and 133.51.

Description of Relief Sought/Disposition: To permit Mountain West to conduct external-load operations in the United States using a leased, Canadian-registered Kaman K-1200 K-Max helicopter (registration No. C-FXFT, serial No. 007).

Grant, 08/03/2001, Exemption No. 7584.

Docket No.: FAA-2001-9578.

Petitioner: General Dynamics Aviation Services.

Section of 14 CFR Affected: 14 CFR 145.45(f).

Description of Relief Sought/Disposition: To permit GDAS to assign copies of its Inspection Procedures Manual (IPM) to certain individuals and make the IPM available electronically to its supervisory and inspection personnel rather than give a copy of the IPM to each of its supervisory and inspection personnel.

Grant, 07/13/2001, Exemption No. 7577.

Docket No.: FAA-2001-9783 (previously Docket No. 27911).

Petitioner: Líder Táxi Aéreo.

Section of 14 CFR Affected: 14 CFR 145.47(b).

Description of Relief Sought/Disposition: To permit Líder Táxi to substitute the calibration standards of the Instituto Nacional de Metrologia, Normalizção e Qualidade Industrial (INMETRO), Brazil's national standards organization, for the calibration standards of the U.S. National Institute of Standards and Technology (NIST) to test its inspection and test equipment.

Grant, 07/13/2001, Exemption No. 6999A.

[FR Doc. 01-21297 Filed 8-22-01; 8:45 am]

BILLING CODE 4910-13-M